DEPARTMENT OF THE INTERIOR

Bureau of Land Management

[LLUT030000-L17110000-PH0000-24-1A]

Notice of Grand Staircase-Escalante National Monument Advisory Committee Meeting

AGENCY: Bureau of Land Management, Interior.

ACTION: Notice.

SUMMARY: In accordance with the Federal Land Policy and Management Act (FLPMA) and the Federal Advisory Committee Act of 1972 (FACA), the Department of the Interior, Bureau of Land Management (BLM), Grand Staircase-Escalante National Monument Advisory Committee (GSENMAC) will meet as indicated below.

DATES: The GSENMAC will meet Tuesday, May 7, 2013, (1:00-6:00 p.m.) and Wednesday, May 8, 2013, (8:00 a.m.-5:00 p.m.) in Escalante, Utah.

ADDRESSES: The GSENMAC will meet at the Escalante Interagency Visitor Center, located at 755 West Main Street, Escalante, Utah 84741.

FOR FURTHER INFORMATION CONTACT: Larry Crutchfield, Public Affairs Officer, Grand Staircase-Escalante National Monument, Bureau of Land Management, 669 South Highway 89A, Kanab, Utah 84741; phone 435-644-1209.

SUPPLEMENTARY INFORMATION: The 15-member GSENMAC was appointed by the Secretary of the Interior on August 2, 2011, pursuant to the Monument Management Plan, the Federal Land Policy and Management Act of 1976 (FLPMA), and the Federal Advisory Committee Act of 1972 (FACA). As specified in the Monument Management Plan, the GSENMAC has several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and, (4) Could be consulted on issues such as protocols for specific projects.

Topics to be discussed by the GSENMAC during this meeting include: an update on the Monument Management Plan amendment; review of the draft BLM-Utah National Landscape Conservation System (NLCS) strategic plan; updates on the Colorado Mesa University Visitor Experience Baseline Study and the Arizona State University Appreciative Inquiry Study on Tourism; subcommittee reports; GSENM division reports, future meeting dates; and, other matters as may reasonably come before the GSENMAC.

Members of the public are welcome to address the GSENMAC during a public comment period at 5:00 p.m., local time, on May 7, 2013. Depending on the number of persons wishing to speak, a time limit could be established. Written statements can be sent to the GSENM address listed in the FOR FURTHER INFORMATION CONTACT section of this notice. Information to be distributed to the GSENMAC is requested 10 days prior to the start of the meeting. A field trip is planned for the morning of May 8, 2013, to familiarize GSENMAC members with grazing management.

All meetings are open to the public; however, transportation, lodging, and meals are the responsibility of the participating public.

Jenna Whitlock,
Associate State Director.

[FR Doc. 2013-07811 Filed 4-3-13; 8:45 am]

BILLING CODE 4310-DQ-P